DEPARTMENT OF TRANSPORTATION

Federal Aviation Administration

14 CFR Part 39

[Docket No. FAA-2005-21589; Directorate Identifier 2004-SW-44-AD; Amendment 39-14154; AD 2005-13-17]

RIN 2120-AA64

Airworthiness Directives; Agusta S.p.A. Model AB412 Series Helicopters

AGENCY: Federal Aviation Administration, DOT.

ACTION: Final rule; request for comments.

SUMMARY: This amendment adopts a new airworthiness directive (AD) for the Agusta S.p.A. (Agusta) Model AB412 Series helicopters. This action requires inspecting each affected tail rotor blade (blade) forward tip weight retention block (tip block) and the aft tip closure (tip closure) for adhesive bond voids, and removing any blade with an excessive void from service. This AD also requires modifying certain blades by installing shear pins and tip closure rivets on all affected blades. This amendment is prompted by reports of in-flight loss of tip blocks and tip closures resulting in minor to substantial damage. The actions specified in this AD are intended to prevent loss of the tip block or tip closure, loss of a blade, and subsequent loss of control of the helicopter.

DATES: Effective July 11, 2005.

The incorporation by reference of certain publications listed in the regulations is approved by the Director of the Federal Register as of July 11, 2005.

Comments for inclusion in the Rules Docket must be received on or before August 23, 2005.

ADDRESSES: Use one of the following addresses to submit comments on this AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street SW, Nassif Building, Room PL-401, Washington, DC 20590;

• Fax: (202) 493-2251; or

• Hand Delivery: Room PL-401 on the plaza level of the Nassif Building, 400 Seventh Street SW, Washington, DC, between 9 a.m. and 5 p.m., Monday through Friday, except Federal holidays.

You may get the service information identified in this AD from Agusta, 21017 Cascina Costa di Samarate (VA) Italy, Via Giovanni Agusta 520, telephone 39 (0331) 229111, fax 39 (0331) 229605-222595.

Examining the Docket

You may examine the docket that contains the AD, any comments, and other information on the Internet at http://dms.dot.gov, or in person at the Docket Management System (DMS) Docket Offices between 9 a.m. and 5 p.m., Monday through Friday, except Federal holidays. The Docket Office (telephone (800) 647-5227) is located on the plaza level of the Department of Transportation Nassif Building at the street address stated in the ADDRESSES section. Comments will be available in the AD docket shortly after the DMS receives them.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION: This amendment adopts a new AD for Agusta Model AB412 Series helicopters. This action requires inspecting the tip block and the tip closure for adhesive bond voids and removing any blade with an excessive void from service. This action also requires modifying certain blades by installing shear pins and tip closure rivets in the tip area of all affected blades. This amendment is prompted by reports of in-flight loss of tip blocks and tip closures resulting in minor to substantial damage. This condition, if not detected, could result in loss of a tip block or tip closure, loss of a blade, and subsequent loss of control of the helicopter.

Ente Nazionale per l'Aviazione Civile (ENAC), the airworthiness authority for Italy, notified the FAA that an unsafe condition may exist on Agusta Model AB 205A1, AB212, and AB412 helicopters. ENAC advises modifying the blade tip block and tip closure retention.

Agusta has issued Bollettino Tecnico No. 412-88, Revision A, dated August 17, 2004 (BT 412-88, Revision A), which specifies inspecting and modifying blade, part number (P/N) 212-010-750-ALL, tip block and tip closure retention by providing additional fasteners in the tip area to prevent future loss of either the tip block or tip closure. Recent investigations into the in-flight loss of a blade, P/N 212-010-750-105, tip block, revealed that the countersunk screws retaining the tip block were installed incorrectly resulting in inadequate tip block retention. Additionally, reports have been submitted of the loss of the tail rotor tip cap closure possibly due to an inadequate bond in this area. ENAC classified this service information as mandatory and issued AD 2004-351, dated September 3, 2004, to ensure the continued airworthiness of these helicopters in Italy.

These helicopter models are manufactured in Italy and are type certificated for operation in the United States under the provisions of 14 CFR 21.29 and the applicable bilateral agreement. Pursuant to the applicable bilateral agreement, ENAC has kept the FAA informed of the situation described above. The FAA has examined the findings of ENAC, reviewed all available information, and determined that AD action is necessary for products of these type designs that are certificated for operation in the United States.

This unsafe condition is likely to exist or develop on other helicopters of the same type designs if they become registered in the United States. Therefore, this AD is being issued to prevent loss of the tip block or tip closure, loss of a blade, and subsequent loss of control of the helicopter. This AD requires, within 100 hours time-in-service (TIS):

• Inspecting the tip block and tip closure for voids and, before further flight, removing any blade that has voids in excess of the Component Repair and Overhaul Manual Limitations.

• Inspecting the tip block attachment countersink screws in four locations to determine if the head of each countersunk screw is flush with the surface of the abrasion strip and the skin. If any of the screws are set below the surface of the abrasion strip and the skin or are covered with filler material, before further flight, install shear pins.

• Installing tip closure rivets on all affected blades.

Accomplish the actions in accordance with the service bulletin described previously.

None of the Agusta Model AB412 Series helicopters affected by this action are on the U.S. Register. All helicopters included in the applicability of this rule are currently operated by non-U.S. operators under foreign registry; therefore, they are not directly affected by this AD action. However, the FAA considers that this rule is necessary to ensure that the unsafe condition is addressed in the event that any of these subject helicopters are imported and placed on the U.S. Register in the future.

Should an affected helicopter be imported and placed on the U.S. Register in the future, it would take approximately 3 work hours to accomplish the required actions at an average labor rate of $65 per work hour. Required parts would cost $25. Based on these figures, the cost impact of this AD would be $220 per helicopter.

Since this AD action does not affect any helicopter that is currently on the U.S. register, it has no adverse economic impact and imposes no additional burden on any person. Therefore, notice and public procedures hereon are unnecessary and the amendment may be made effective in less than 30 days after publication in the Federal Register.

Comments Invited

This AD is a final rule that involves requirements that affect flight safety and was not preceded by notice and an opportunity for public comment; however, we invite you to submit any written data, views, or arguments regarding this AD. Send your comments to an address listed under ADDRESSES. Include “Docket No. FAA-2005-21589; Directorate Identifier 2004-SW-44-AD” at the beginning of your comments. We specifically invite comments on the overall regulatory, economic, environmental, and energy aspects of the AD. We will consider all comments received by the closing date and may amend the AD in light of those comments.

We will post all comments we receive, without change, to http://dms.dot.gov, including any personal information you provide. We will also post a report summarizing each substantive verbal contact with FAA personnel concerning this AD. Using the search function of our docket web site, you can find and read the comments to any of our dockets, including the name of the individual who sent the comment. You may review the DOT's complete Privacy Act Statement in the Federal Register published on April 11, 2000 (65 FR 19477-78), or you may visit http://dms.dot.gov.

Regulatory Findings

We have determined that notice and prior public comment are unnecessary in promulgating this regulation; therefore, it can be issued immediately to correct an unsafe condition in aircraft since none of these model helicopters are registered in the United States. We have also determined that this regulation is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the AD docket.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2005-13-17 Agusta. S.p.A.: Amendment 39-14154. Docket No. FAA-2005-21589; Directorate Identifier 2004-SW-44-AD.

Applicability: Model AB412 Series helicopters, with a tail rotor blade (blade), part number (P/N) 212-010-750-All, having a serial number (S/N) with a prefix of “A” or “A-FS” and number 11530 through 13618, except numbers 13595 through 13602, installed, certificated in any category.

Compliance: Within 100 hours time-in-service, unless accomplished previously.

To prevent loss of the forward tip weight retention block (tip block) or aft tip closure (tip closure), loss of a blade, and subsequent loss of control of the helicopter, accomplish the following:

(a) Inspect the tip block and tip closure for voids. Before further flight, remove any blade with a void in excess of that allowed by the Component Repair and Overhaul Manual limitations.

(b) Inspect the tip block attachment countersink screws in four locations to determine if the head of each countersunk screw is flush with the surface of the abrasion strip and the skin. The location of these four screws is depicted on Figure 2 of Agusta Bollettino Tecnico No. 412-88, Revision A, dated August 17, 2004 (BT 412-88, Revision A). If any of these screws are set below the surface of the abrasion strip or are covered with filler material, before further flight, install shear pins by following the Accomplishment Instructions, Part A, Tip Block: Shear Pin Installation, paragraphs 1 through 3, of BT 412-88, Revision A.

(c) Install the tip closure rivets on all affected blades by following the Accomplishment Instructions, Part B, Aft Tip Closure: Rivet Installation, paragraphs 1 through 6, of BT 412-88, Revision A.

(d) To request a different method of compliance or a different compliance time for this AD, follow the procedures in 14 CFR 39.19. Contact the Safety Management Group, FAA, for information about previously approved alternative methods of compliance.

(e) The inspections and modification must be done by following the specified portions of Agusta Bollettino Tecnico No. 412-88, Revision A, dated August 17, 2004. The Director of the Federal Register approved this incorporation by reference in accordance with 5 U.S.C. 552(a) and 1 CFR part 51. Copies may be obtained from Agusta, 21017 Cascina Costa di Samarate (VA) Italy, Via Giovanni Agusta 520, telephone 39 (0331) 229111, fax 39 (0331) 229605-222595. Copies may be inspected at the National Archives and Records Administration (NARA). For information on the availability of this material at NARA, call 202-741-6030, or go to: http://www.archives.gov/federal_register/code_of_federal_regulations/ibr_locations.html.

(f) This amendment becomes effective on July 11, 2005.

Note: The subject of this AD is addressed in Ente Nazionale per l'Aviazione Civile (Italy) AD 2004-351, dated September 3, 2004.

Issued in Fort Worth, Texas, on June 8, 2005.
S. Frances Cox,
Acting Manager, Rotorcraft Directorate, Aircraft Certification Service.

[FR Doc. 05-12419 Filed 6-23-05; 8:45 am]

BILLING CODE 4910-13-P